DEPARTMENT OF THE INTERIOR

Bureau of Reclamation

[RR03042000, 18XR0680A1, RX.18786000.1501100; OMB Control Number 1006-0014]

Agency Information Collection Activities; Lower Colorado River Well Inventory

AGENCY: Bureau of Reclamation, Interior.

ACTION: Notice of information collection; request for comment.

SUMMARY: In accordance with the Paperwork Reduction Act of 1995, we, the Bureau of Reclamation (Reclamation), are proposing to renew an information collection.

DATES: Interested persons are invited to submit comments on or before October 30, 2018.

ADDRESSES: Send written comments on this information collection request (ICR) by mail to Paul Matuska, Water Accounting and Verification Group Manager, LC-4200, Bureau of Reclamation, Lower Colorado Regional Office, P.O. Box 61470, Boulder City, NV 89006-1470; or by email to pmatuska@usbr.gov. Please reference OMB Control Number 1006-0014 in the subject line of your comments.

FOR FURTHER INFORMATION CONTACT: To request additional information about this ICR, contact Paul Matuska by email pmatuska@usbr.gov or by telephone at (702) 293-8164.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of Reclamation; (2) will this information be processed and used in a timely manner; (3) is the estimate of burden accurate; (4) how might Reclamation enhance the quality, utility, and clarity of the information to be collected; and (5) how might Reclamation minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Pursuant to the Boulder Canyon Project Act (43 U.S.C. 617, Pub. L. 642-70th Congress, 45 Stat. 1057), all diversions of mainstream Colorado River water must be in accordance with a Colorado River water entitlement. The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River, and the gathering of specific information concerning these wells.

Title of Collection: Lower Colorado River Well Inventory.

OMB Control Number: 1006-0014.

Form Number: Form LC-25.

Type of Review: Extension of a currently approved collection.

Respondents/Affected Public: Well owners and operators along the lower Colorado River in Arizona, California, and Nevada. Each diverter (including well pumpers) must be identified and their diversion locations and water use determined.

Total Estimated Number of Annual Respondents: 150.

Total Estimated Number of Annual Responses: 150.

Estimated Completion Time per Response: Approximately 20 minutes is required to interview individual well and river-pump owners or operators.

Total Estimated Number of Annual Burden Hours: 50 hours.

Respondent's Obligation: Required to obtain or retain a benefit.

Frequency of Collection: These data are collected only once for each well or river-pump owner or operator as long as changes in water use, or other changes that would impact contractual or administrative requirements, are not made. A respondent may request that the data for its well or river pump be updated after the initial inventory.

Total Estimated Annual Non-hour Burden Cost: 0.

An agency may not conduct or sponsor and a person is not required to respond to a collection of information unless it displays a currently valid OMB control number.

The authority for this action is the Paperwork Reduction Act of 1995 (44 U.S.C. 3501 et seq.).

Dated: May 7, 2018.
Terrance J. Fulp,
Regional Director, Lower Colorado Region.

Editorial Note: This document was received for publication by the Office of the Federal Register on August 27, 2018.

[FR Doc. 2018-18910 Filed 8-30-18; 8:45 am]

BILLING CODE 4332-90-P